DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of January 22 through February 2, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. there has been a shift in production by such workers' firm or subdivision to a foreign country of articles like or directly competitive with articles which are produced by such firm or subdivision; and

C. One of the following must be satisfied:

1. The country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-60,778; Northern Expediting Corporation, Union, NJ: January 9, 2006.

The following certifications have been issued. The requirements of Section 222(a)(2)(B) (shift in production) of the Trade Act have been met.

TA-W-60,281; Airtex Products LP, Marked Tree, AR: October 20, 2005.

TA-W-60,611; BMCI Rodgers Molding Corp., A Subsidiary of Bulk Molding Compounds, El Paso, TX: December 13, 2005.

TA-W-60,664; Hoffmann—La Roche, Inc., Biopharmaceutical Manufacturing Department, Nutley, NJ: December 21, 2005.

The following certifications have been issued. The requirements of Section 222(b) (supplier to a firm whose workers are certified eligible to apply for TAA) of the Trade Act have been met.

TA-W-60,728; Hoover Universal, Inc., d/b/a Johnson Controls, AG Division, Oklahoma City, OK: December 13, 2005.

The following certifications have been issued. The requirements of Section 222(b) (downstream producer for a firm whose workers are certified eligible to apply for TAA based on increased imports from or a shift in production to Mexico or Canada) of the Trade Act have been met.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-60,319; Rose Art Industries, LLC, Wood Ridge, NJ: October 24, 2005.

TA-W-60,319A; Rose Art Industries, LLC, Livingston, NJ: October 24, 2005.

TA-W-60,675; Pittsburgh Corning Corp., Glass Block Division, Port Allegany, PA: December 21, 2005.

TA-W-60,677; Win Depot, LLC, Long Island City, NY: December 27, 2005.

TA-W-60,680; Cecilware Corporation, Long Island City, NY: December 18, 2005.

TA-W-60,712; Keneric Corporation, Obion Plant, Obion, TN: December 28, 2005.

TA-W-60,712A; Keneric Corporation, Altamont Plant, Altamont, TN: December 28, 2005.

TA-W-60,713; Missouri Fabricated Products, Gleason Corporation, Caruthersville, MO: January 5, 2006.

TA-W-60,722; Kirchner Corporation, Golden Valley, MN: January 8, 2006.

TA-W-60,731; Best Manufacturing Co., Menlo, GA: January 9, 2006.

TA-W-60,749; Narrow Fabric Industries Corp., A Subsidiary of Cheynet Group, West Reading, PA: January 9, 2006.

TA-W-60,774; Rayloc, Inc., Stephenville, TX: January 16, 2006.

TA-W-60,803; Fluidyne Manufacturing/Lorenz Industries, Staffworks, Inc., Ansonia, CT: January 19, 2006.

TA-W-60,815; Dicey Mills, Inc., Shelby, NC: January 22, 2007.

TA-W-60,445; Manchester Tool Co., Akron, OH: November 14, 2005.

TA-W-60,486A; Alma Products Co., Torque Converters, Alma, MI: November 22, 2005.

TA-W-60,500; Potlatch Forest Products Corporation, Warren Lumber Mill, Warren, AR: November 29, 2005.

TA-W-60,538; Hipwell Manufacturing Holding Co., Pittsburgh, PA: December 4, 2005.

TA-W-60,589; Ace Industries, LLC, Lineville, AL: December 11, 2005.

TA-W-60,591; Leggett and Platt, Inc., Bedding Division, Phoenix, AZ: December 5, 2005.

TA-W-60,592; South End Manufacturing, Lawrenceburg, TN: December 6, 2005.

TA-W-60,607; Stimson Lumber Company, Bonner Stud Mill, Bonner, MT: December 5, 2005.

TA-W-60,612; Riley Creek Lumber Company, Moyie Springs Mill, Moyie Springs, ID: December 13, 2005.

TA-W-60,761; Doyle Enterprises, Inc., Rock Mount, VA: January 11, 2006.

The following certifications have been issued. The requirements of Section 222(a)(2)(B) (shift in production) and Section 246(a)(3)(A)(ii) of the Trade Act have been met.

TA-W-60,637; Zomax, Inc., Plymouth, MN: December 18, 2005.

TA-W-60,649; Strattec Security Corp., Service Department, Milwaukee, WI: December 14, 2005.

TA-W-60,650; Bourns, Inc., Formerly Known As SSI Technologies, Inc., Janesville, WI: December 19, 2005.

TA-W-60,654; Badger Fire Protection / UTC Fire and Security, Badger Fire Protection Division, Charlottesville, VA: December 20, 2005.

TA-W-60,689; Ronfeldt Associates, Inc., Toledo, OH: December 21, 2005.

TA-W-60,690; Bestop, Inc., Broomfield, CO: January 2, 2006.

TA-W-60,701; Uniflex Holdings, Inc., Hicksville, NY: January 3, 2006.

TA-W-60,701A; Uniflex Holdings, Inc., Westbury, NY: January 3, 2006.

TA-W-60,711; Hurd Lock and Manufacturing Co., Greenville, TN: January 4, 2006.

TA-W-60,717; Lear Corporation, Seating Systems Division, Romulus, MI: January 5, 2006.

TA-W-60,718; Renfro Charleston, LLC, Cleveland, TN: January 2, 2006.

TA-W-60,720; Specialty Electronics, Inc., Delphi Connection Systems Division, Landrum, SC: January 15, 2007.

TA-W-60,723; Pechiney Plastic Packaging, Inc., A Subsidiary of Alcan, Tubes America Division, Washington, NJ: March 10, 2006.

TA-W-60,725; Birds Eye Foods, Inc., Watsonville, CA: January 9, 2006.

TA-W-60,730; Jabil Circuit, Inc., Auburn Hills, MI: May 14, 2006.

TA-W-60,732; Trend Tool, Inc., A Subsidiary of Magna International, Livonia, MI: December 19, 2005.

TA-W-60,736; Cooper Power System, Cooper Industries, Kearney Operations, Fayetteville, AR: January 27, 2007.

TA-W-60,737; Atwood Mobile Products, Division of Dura Automotive Systems, Inc., LaGrange, IN: January 3, 2006.

TA-W-60,746; D J, Inc., Adecco and Staff Store, El Paso, TX: January 10, 2006.

TA-W-60,752; Alcoa Engineered Plastic Components, AFL Automotive Division, El Paso, TX: January 11, 2006.

TA-W-60,766; Travel Tags, Inver Grove Heights, MN: January 12, 2006.

TA-W-60,784; Victaulic Company, Apex Valve Trim Assembly, New Village, NJ: January 17, 2006.

TA-W-60,829; F and M Hat Company, Inc., Denver, PA: January 24, 2006.

TA-W-60,858; Delphi Corporation, Automotive Holdings Group, Anderson, IN: January 23, 2006.

TA-W-60,616; APW Enclosures, Anaheim, CA: December 14, 2005.

TA-W-60,667; Icelandic USA, Inc., Cambridge, MD: December 22, 2005.

TA-W-60,669; Connor Corporation, Fort Wayne, IN: December 27, 2005.

TA-W-60,745; Bush Industries, Inc., Erie, PA: January 10, 2006.

TA-W-60,767; Portola Tech International, Staff-U-Smart, Woonsocket, RI: December 22, 2005.

The following certifications have been issued. The requirements of Section 222(b) (supplier to a firm whose workers are certified eligible to apply for TAA) and Section 246(a)(3)(A)(ii) of the Trade Act have been met.

TA-W-60,520; Lear Corporation, Electric Systems Division, Southfield, MI: November 30, 2005.

TA-W-60,622; ArvinMeritor, Inc, Light Vehicles, Olsten Staffing, Mullins, SC: December 5, 2005.

TA-W-60,641; Collis, Inc., A Subsidiary of SSW Holding Co., Evansville, IN: December 19, 2005.

TA-W-60,678; Keystone Powdered Metal Company, St. Mary's Division, St. Mary's, PA: December 28, 2005.

TA-W-60,679; Greenwood Mills, Inc., Mathews Plant, Greenwood, SC: December 19, 2005.

TA-W-60,706; Ameritex Yarn, LLC, Spartanburg Plant, Spartanburg, SC: January 2, 2006.

TA-W-60,727; Johnson Controls, Inc., Automotive Division, Chesapeake, VA: January 9, 2006.

TA-W-60,733; L and R Knitting, Inc., Hickory, NC: January 8, 2006.

TA-W-60,743; Atotech USA, Inc., Subsidiary of Total S.A., Express Personnel, On Assignment, Rock Hill, SC: January 9, 2006.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

TA-W-60,778; Northern Expediting Corporation, Union, NJ.

TA-W-60,281; Airtex Products LP, Marked Tree, AR.

TA-W-60,611; BMCI Rodgers Molding Corp., A Subsidiary of Bulk Molding Compounds, El Paso, TX.

TA-W-60,728; Hoover Universal, Inc., d/b/a Johnson Controls, AG Division, Oklahoma City, OK.

The Department has determined that criterion (2) of Section 246 has not been met. Workers at the firm possess skills that are easily transferable.

TA-W-60,664; Hoffmann-La Roche, Inc., Biopharmaceutical Manufacturing Department, Nutley, NJ.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-60,631; Jay-Enn Corporation, Troy, MI.

TA-W-60,780; Cer-Tek, Inc., El Paso, TX.

The investigation revealed that criteria (a)(2)(A)(I.B.) (Sales or production, or both, did not decline) and (a)(2)(B)(II.B.) (shift in production to a foreign country) have not been met.

TA-W-60,571; Caribe General Electric, Humacao, PR.

TA-W-60,714; Extreme Tool and Engineering, Wakefield, MI.

TA-W-60,741; E.J. Victor, Inc., Case Goods Division, Morganton, NC.

TA-W-60,754; Page Foam Cushioned Products, Johnstown, PA.

The investigation revealed that criteria (a)(2)(A)(I.C.) (increased imports) and (a)(2)(B)(II.B.) (shift in production to a foreign country) have not been met.

TA-W-60,486; Alma Products Co., A/C Compressors, Alma, MI.

TA-W-60,490; Bollag International Corp., Greenwood, SC.

TA-W-60,516; Milliken and Company, Kingstree Mill Division, Kingstree, SC.

TA-W-60,530; Tower Automotive, Inc., Upper Sandusky, OH.

TA-W-60,577; Dixie Regency Foam, Division of Hickory Springs Mfg. Co., Hickory, NC.

TA-W-60,610; Belding Hausman, Inc., Southampton Textiles Division, Emporia, VA.

TA-W-60,625; Huntington Foam Pittsburgh Corp., A Subsidiary of Huntington Foam Corp., Mt. Pleasant, PA.

TA-W-60,626; Baseline Tool Company, Inc., Wawaka, IN.

TA-W-60,656; Carpenter Company, Consumer Products Division, Hickory, NC.

TA-W-60,775; Oxbow Machine Products, Livonia, MI.

TA-W-60,597; Mason County Forest Products, Shelton, WA.

TA-W-60,647; Ito Cariani Foods, Hayward, CA.

TA-W-60,685; ACE Style Intimate Apparel, Inc., New York, NY.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

None.

The workers' firm does not produce an article as required for certification under section 222 of the Trade Act of 1974.

TA-W-60,505; Calstar Textiles, Inc., Vernon, CA.

TA-W-60,529; Hospira, Inc., Shared Services Department, Rocky Mount, NC.

TA-W-60,606; Pfizer, Inc., Pfizer Global Research and Development Group, Kalamazoo, MI.

TA-W-60,651; AOL LLC, Oklahoma City Call Center, Oklahoma City, OK.

TA-W-60,768; IDT Corporation, IDT Telecom, Newark, NJ.

The investigation revealed that criteria of section 222(b)(2) has not been met. The workers' firm (or subdivision) is not a supplier to or a downstream producer for a firm whose workers were certified eligible to apply for TAA.

TA-W-60,495; Dumaine Investment Company, dba Industrial Tool and Engineering, Warrenville, SC.

I hereby certify that the aforementioned determinations were issued during the period of January 22 through February 2, 2007. Copies of these determinations are available for inspection in Room C-5311, U.S. Department of Labor, 200 Constitution Avenue, NW., Washington, DC 20210 during normal business hours or will be mailed to persons who write to the above address.

Dated: February 6, 2007.
Linda G. Poole,
Certifying Officer, Division of Trade Adjustment Assistance.

[FR Doc. E7-2474 Filed 2-13-07; 8:45 am]

BILLING CODE 4510-FN-P